DEPARTMENT OF TRANSPORTATION

Coast Guard

33 CFR Part 117

[CGD01-00-243]

Drawbridge Operation Regulations; Hutchinson River, Eastchester Creek, NY

AGENCY: Coast Guard, DOT.

ACTION: Notice of temporary deviation from regulations.

SUMMARY: The Commander, First Coast Guard District, has issued a temporary deviation from the drawbridge operation regulations for the South Fulton Avenue Bridge, mile 2.9, across the Eastchester Creek in New York. This deviation from the regulations allows the bridge owner to keep the bridge in the closed position, from 8 a.m. Monday through 4:30 p.m. Thursday, for four weeks, October 23, 2000, through November 17, 2000. This action is necessary to facilitate sidewalk replacement at the bridge.

DATES: This deviation is effective October 23, 2000, through November 17, 2000.

FOR FURTHER INFORMATION CONTACT: Joe Schmied, Project Officer, First Coast Guard District, at (212) 668-7165.

SUPPLEMENTARY INFORMATION: The South Fulton Avenue Bridge, mile 2.9, across the Eastchester Creek has a vertical clearance of 6 feet at mean high water, and 13 feet at mean low water in the closed position. The bridge owner, Westchester County Department of Public Works (WCDPW), requested a temporary deviation from the operating regulations to facilitate sidewalk replacement at the bridge. The existing operating regulations at 33 CFR 117.793(c) require the bridge to open on signal from three-hours before to three-hours after high tide. At all other times the bridge shall open on signal if at least four-hours advance notice is given.

This deviation to the operating regulations allows the owner of the South Fulton Avenue Bridge to keep the bridge in the closed position from 8 a.m. Monday through 4:30 p.m. Thursday, for four weeks, October 23, 2000 through November 17, 2000. Vessels that can pass under the bridge without an opening may do so at all times.

In accordance with 33 CFR 117.35(c), this work will be performed with all due speed in order to return the bridge to normal operation as soon as possible. This deviation from the operating regulations is authorized under 33 CFR 117.35.

Dated: October 6, 2000.
G.N. Naccara,
Rear Admiral, U.S. Coast Guard Commander, First Coast Guard District.

[FR Doc. 00-27666 Filed 10-26-00; 8:45 am]

BILLING CODE 4910-15-M